DEPARTMENT OF ENERGY

Federal Energy Regulatory Commission

[Docket No. RM01-5-000]

Electronic Tariff Filings; Notice of Posting of Revised Type of Filing and Validation Error Codes for Testing

Take notice that revised Type of Filing and Validation Error Codes have been posted for testing the compliance filing revisions to be implemented November 25, 2024, as indicated in the September 6, 2024, notice in this docket. The revised codes will ensure that parties differentiate between (1) compliance filings in a current proceeding for which the filer has a filing identifier, which are assigned a sub-docket, and (2) compliance filings, such as compliance with complaint orders and rulemakings, where the filer has no existing filing identifier and therefore must establish a new docket. New filing codes also will be assigned to allow utilities to distinguish baseline rate change filings from baseline initial rate filings.

Under the eTariff XML schema, filers that are making a filing related to an existing proceeding with a Filing Identifier must include an Associated Filing Identifier at the Filing level for the filing to receive a sub-docket. In this situation, filers must submit the filing using the compliance type category and must include an associated filing identifier at the Filing level, so they are assigned a sub-docket of the original docket. Failure to include the associated filing identifier will result in a rejection of the filing (Error code 28—An Associated Filing Identifier is required at filing level.). Type of Filing Codes designated under the compliance new type category apply to filings that will receive a new docket number. If the filing using these codes includes an associated filing identifier at the Filing level, the filing be rejected (Error code 187—This type of filing code establishes a new docket, so the associated filing identifier is not needed).

Starting on September 30, 2024, the currently deployed test sandbox will include the revised Type of Filing and Validation Error Codes. These codes are for testing purposes only; they cannot be used to make official tariff filings through eFiling.

The revised Type of Filing and Validation Error Codes, along with a marked version highlighting the revisions, will be posted at the same eLibrary Accession Number as this Notice. The posting also will include all the files associated with the addition of the lead applicant field in the XML schemas and the addition of the flexibility to file tariff records using Microsoft Word and Excel formats.

Questions on these changes should be directed to: Michael Goldenberg at Michael.Goldenberg@ferc.gov or James Sarikas at James.Sarikas@ferc.gov.

Dated: September 20, 2024.
Debbie-Anne A. Reese,
Acting Secretary.

[FR Doc. 2024-22083 Filed 9-25-24; 8:45 am]

BILLING CODE 6717-01-P